DEPARTMENT OF TRANSPORTATION

Federal Railroad Administration

[Docket Number FRA-2010-0027]

Notice of Petition for Waiver of Compliance; Notice of Petition for Statutory Exemption

In accordance with 49 U.S.C. 21102(b), Cargill Incorporated (CI), on behalf of its employees performing work governed by the hours of service law (HSL) (49 U.S.C. Chapter 211) at its Channelview, TX, facility, has petitioned the Federal Railroad Administration (FRA) for an exemption from certain provisions of the HSL. Specifically, CI requests an exemption from the requirements of 49 U.S.C. 21103(a)(1) and 21103(a)(4) as it applies to employees at its Channelview facility. In a separate petition, which CI requests that FRA consider in the event that FRA denies its exemption petition, CI seeks a waiver from the requirements of 49 U.S.C. 21103(a)(1) as it applies to employees performing covered service at its Channelview facility, for the purpose of conducting a pilot project. Both petitions may be viewed at http://www.regulations.gov under the docket number listed above.

CI's Petition for Statutory Exemption

In its petition for statutory exemption, CI seeks an exemption from the statutory requirement contained in 49 U.S.C. 21103(a)(1), limiting train employees to a total of 276 on-duty hours per calendar month, awaiting or in deadhead transportation from a duty assignment to a place of final release, and in any other mandatory service for a railroad carrier, and from 49 U.S.C. 21103(a)(4), which requires railroads to provide train employees 48 hours of rest after an employee has initiated an on-duty period on 6 consecutive days and 72 hours of rest after an employee has initiated an on-duty period on 7 consecutive days. In support of its exemption request, CI states that its Channelview facility has 15 or fewer employees covered by the HSL and that the facility is operated independently of other CI facilities. CI further explains that its employees subject to the HSL spend the majority of their on-duty time performing non-covered service (e.g., unloading grain from stationery railcars, general housekeeping duties in accordance with the Occupational Safety and Health Administration's combustible dust standards) and that covered service accounts for less than 12 percent of covered employees' monthly hours worked. CI also explains that with certain seasonal exceptions, employees at its Channelview facility generally work in two shifts that rotate every 2 weeks; from 7 a.m.-3 p.m. and from 3 p.m.-11 p.m. (extended to 3 a.m. if needed). CI asserts that the employees' current work schedules ensure safe operations by providing the employees greater control over rest periods and the scheduling of personal affairs and that the statutory restrictions of 49 U.S.C. 21103(a)(1) and 21103(a)(4) unnecessarily lower the earning potential of employees subject to the HSL as compared to other workers at the facility.

CI's Petition for Waiver

In its petition for waiver, in lieu of using a calendar month for measuring the on-duty hours of an employee pursuant to 49 U.S.C. 21103(a)(1), CI proposes to implement a pilot program for establishing an alternative calculation period for the 276-hour monthly limitation. CI and its employees propose a pilot program that would divide a “calendar month” into two measuring periods or groups. The first group would calculate its time toward the 276-hour monthly limitation from the first day of each month to the last day of each month. The second group would calculate its time toward the 276-hour monthly limitation from the 15th day of a month to the 14th day of the following month. By staggering the calculation of the 276-hour monthly limitation, CI notes that the pilot program would ensure that not all employees reach the monthly limitation at the same time.

CI included with its petitions, documentation indicating that its employees supported the request for relief. (49 U.S.C. 21103(a)(1) and 21103 (a)(4)). As previously stated, the requests for relief are specially limited to CI's Channelview, TX, facility and, as such, the other facilities of CI are not covered by the requests.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0027) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on November 22, 2010.
Robert C. Lauby,
Deputy Associate Administrator for Regulatory and Legislative Operations.

[FR Doc. 2010-29826 Filed 11-26-10; 8:45 am]

BILLING CODE 4910-06-P